DEPARTMENT OF HOMELAND SECURITY

Coast Guard

33 CFR Part 165

[Docket No. USCG-2019-0660]

Safety Zones; Annual Events Requiring Safety Zones in the Captain of the Port Lake Michigan Zone

AGENCY: Coast Guard, DHS.

ACTION: Notice of enforcement of regulation.

SUMMARY: The Coast Guard will enforce the safety zone on the Milwaukee River, between the I-794 overpass to the confluence of the Kinnickinnic River in Milwaukee, WI for the Milwaukee Open Water Swim, also referred to as the “Cream City Classic” on August 10, 2019 to provide for the safety of life on navigable waterways during the event. During the enforcement period, vessels and persons are prohibited from transiting through, mooring, or anchoring within the safety zone without approval from the Captain of the Port (COTP) Lake Michigan or a designated representative.

DATES: The regulations in 33 CFR 165.929 Table 165.929(f)(18) will be enforced on August 10, 2019 from 6 a.m. to 12 noon.

FOR FURTHER INFORMATION CONTACT: If you have questions about this notice of enforcement, call or email Chief Petty Officer Kyle Weitzell, Sector Lake Michigan Waterways Management Division, U.S. Coast Guard; telephone 414-747-7148, email Kyle.W.Weitzell@uscg.mil.

SUPPLEMENTARY INFORMATION: The Coast Guard will enforce the Safety Zone in 33 CFR 165.929 Table 165.929(f)(18) for the Milwaukee River Open Water Swim, also referred to as the “Cream City Classic” from 6 a.m. to 12 noon on August 10, 2019. This action is being taken to provide for the safety of life on navigable waterways of the Milwaukee River in Milwaukee, WI. This safety zone will encompass all waters of the Milwaukee River from the I-794 overpass to the confluence of the Milwaukee River and Kinnickinnic River. Pursuant to 33 CFR 165.929, entry into, transiting, or anchoring within the safety zone during an enforcement period is prohibited unless authorized by the COTP or their designated on-scene representative(s). Those seeking permission to enter the safety zone may request permission from the COTP via Channel 16, VHF-FM or by phone at 414-747-7182. Vessels and persons granted permission to enter the safety zone shall obey the directions of the COTP or their designated representative(s) and all vessels shall operate at the minimum speed necessary to maintain a safe course.

This notice of enforcement is issued under the authority of 33 CFR 165.929 and 5 U.S.C. 552(a). In addition to this publication in the Federal Register, the Captain of the Port Lake Michigan will also provide notice through other means, which will include Broadcast Notice to Mariners. Additionally, the COTP may notify representatives from the maritime industry through telephonic notifications, email notifications, or by direct communication from on scene patrol commanders. If the COTP or a designated representative determines that the regulated area does not need to be enforced for the full duration stated in this notice, he or she may use a Broadcast Notice to Mariners to grant general permission to enter the regulated area. The COTP or a designated on-scene representative may be contacted via Channel 16, VHF-FM or at (414) 747-7182.

Dated: July 31, 2019.
T.J. Stuhlreyer,
Captain, U.S. Coast Guard, Captain of the Port Sector Lake Michigan.

[FR Doc. 2019-16793 Filed 8-6-19; 8:45 am]

BILLING CODE 9110-04-P